DEPARTMENT OF COMMERCE

International Trade Administration

[A-489-824]

Heavy Walled Rectangular Welded Carbon Steel Pipes and Tubes From the Republic of Turkey: Final Results of Antidumping Duty Administrative Review and Final Determination of No Shipments; 2017-2018

AGENCY: Enforcement and Compliance, International Trade Administration, Department of Commerce.

SUMMARY: The Department of Commerce (Commerce) continues to determine that Noksel Celik Boru Sanayi A.S. (Noksel), a producer and/or exporter of heavy walled rectangular welded carbon steel pipes and tubes (HWR pipes and tubes) from the Republic of Turkey (Turkey), sold subject merchandise in the United States at prices below normal value (NV) during the period of review (POR) September 1, 2017 through August 31, 2018. We also determine that Cinar Boru Profil San Ve Tic A.S. (Cinar Boru) had no shipments of HWR pipes and tubes during the POR. Based on an analysis of the comments received, we have not made changes to the weighted-average dumping margins listed in the “Final Results of Review” section below.

DATES: Applicable November 22, 2019.

FOR FURTHER INFORMATION CONTACT: William Horn or Alexis Cherry, AD/CVD Operations, Office VIII, Enforcement and Compliance, International Trade Administration, U.S. Department of Commerce, 1401 Constitution Avenue NW, Washington, DC 20230; telephone: (202) 482-4868 or (202) 482-0607, respectively.

SUPPLEMENTARY INFORMATION:

Background

Commerce published the Preliminary Results on July 19, 2019.¹ For events subsequent to the Preliminary Results, see Commerce's Issues and Decision Memorandum.²

¹ See Heavy Walled Rectangular Welded Carbon Steel Pipes and Tubes from the Republic of Turkey: Preliminary Results of Antidumping Duty Administrative Review and Preliminary Determination of No Shipments; 2017-2018, 84 FR 34863 (July 19, 2019) (Preliminary Results), and accompanying Preliminary Decision Memorandum (PDM).

² See Memorandum, “Heavy Walled Rectangular Welded Carbon Steel Pipes and Tubes from the Republic of Turkey: Issues and Decision Memorandum for the Final Results of Antidumping Duty Administrative Review and Final Determination of No Shipments; 2017-2018,” dated concurrently with, and hereby adopted by, this notice (Issues and Decision Memorandum).

Scope of the Order

The products covered by the order are HWR pipes and tubes from Turkey. A full description of the scope of the order is contained in the Issues and Decision Memorandum.

Analysis of Comments Received

The issues raised by the petitioners in their case brief are addressed in the Issues and Decision Memorandum.³ A list of topics included in the Issues and Decision Memorandum is attached as an Appendix to this notice. The Issues and Decision Memorandum is a public document and is on file electronically via Enforcement and Compliance's Antidumping and Countervailing Duty Centralized Electronic Service System (ACCESS). ACCESS is available to registered users at http://access.trade.gov and in the Central Records Unit, room B8024 of the main Commerce building. In addition, a complete version of the Issues and Decision Memorandum can be accessed directly on the internet at http://enforcement.trade.gov/frn/. The signed Issues and Decision Memorandum and the electronic version of the Issues and Decision Memorandum are identical in content.

³ The petitioners were the only party which filed a case brief in this administrative review.

Application of Adverse Facts Available

For these final results, we continue to find that Noksel withheld necessary information requested by Commerce, failed to provide information to Commerce by the required deadline, and significantly impeded the proceeding. Further, we continue to find that because Noksel received Commerce's questionnaire but did not respond to our request for information, Noksel failed to cooperate to the best of its ability. Therefore, we continue to find that the application of adverse facts available, pursuant to sections 776(a) and (b) of the Act, is warranted with respect to Noksel.

Final Determination of No Shipments

In the Preliminary Results, we found that Cinar Boru ⁴ made no shipments of the subject merchandise to the United States during the POR. Also, in the Preliminary Results, we stated that consistent with our practice, it was not appropriate to rescind the review with respect to Cinar Boru, but rather to complete the review and issue appropriate instructions to U.S. Customs and Border Protection (CBP) based on the final results of this review.⁵

⁴ Commerce initiated a review of Cinar Boru Profil San Ve Tic Stl. See Initiation of Antidumping and Countervailing Duty Administrative Reviews, 83 FR 57411 (November 15, 2018). However, the company has identified itself as Cinar Boru Profil San Ve Tic A.S. in its letters to Commerce. See, e.g., Cinar Boru's Letter, “Heavy Walled Rectangular Welded Carbon Steel Pipes and Tubes from Turkey (A-489-824),” dated March 14, 2019 (Cinar Boru's No Shipment Letter). Commerce is hereby using Cinar Boru's spelling of its name.

⁵ See Preliminary Results, 84 FR at 34863-64; see also, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

After issuing the Preliminary Results, we received no information that contradicted our preliminary results. Therefore, for these final results, we continue to find that Cinar Boru made no shipments of subject merchandise during the POR. See the Issues and Decision Memorandum for further discussion.

Rate for AFA and Non-Selected Companies

For these final results, we continue to assign to Noksel as AFA the highest rate on the record of this proceeding. We will also apply to the non-selected companies the dumping margin that we are applying to Noksel in this administrative review.⁶ As discussed in the Preliminary Results, Commerce's practice in calculating a rate for non-selected companies has been to look to section 735(c)(5) of the Act for guidance. In particular, section 735(c)(5)(B) of the Act provides that where all rates are zero, de minimis, or based entirely on facts available, Commerce may use “any reasonable method” for assigning the rate to the non-selected companies. In this review, the rate assigned to Noksel is the only rate determined for an individual respondent. Thus, in accordance with the U.S. Court of Appeals for the Federal Circuit's decision in Albemarle Corp. v. United States,⁷ we continue to find that a reasonable method for determining the rate for the non-selected companies is to use the dumping margin applied to Noksel in this review.⁸

⁶ See, e.g., Diamond Sawblades and Parts Thereof from the People's Republic of China: Final Results of Antidumping Duty Administrative Review; 2015-2016, 83 FR 17527 (April 20, 2018), and accompanying Issues and Decision Memorandum at Comment 4.

⁷ See Ablemarle Corp. v. United States, 821 F.3d 1345 (Fed. Cir. 2016).

⁸ See PDM at 7-8.

Final Results of the Review

As a result of this review, we determine the following weighted-average dumping margins exist for the POR:

Exporter/producer | Weighted-average dumping margin (percent)
Agir Haddecilik A.S | 35.66
MTS Lojistik ve Tasimacilik Hizmetleri TIC A.S. Istanbul | 35.66
Noksel Celik Boru Sanayi A.S | 35.66
Ozdemir Boru Profil San. ve Tic. Ltd. Sti ⁹ | 35.66

Assessment Rates

Commerce has determined, and CBP shall assess, antidumping duties on all appropriate entries of subject merchandise in accordance with these final results of review.¹⁰ Pursuant to section 776(a) and (b) of the Act, because Commerce has applied AFA to Noksel, we will instruct CBP to apply the rate of 35.66 percent to Noksel's suspended entries of the subject merchandise for the POR. For the companies that were not selected for individual examination, we used as the assessment rate the cash deposit rate assigned to Noksel. Because we determined that Cinar Boru had no shipments of the subject merchandise, for entries of subject merchandise during the POR produced, but not exported by, Cinar Boru, we will instruct CBP to liquidate any entries at the all-others rate (i.e., 17.73 percent) if there is no rate for the intermediate company(ies) involved in the transaction.¹¹

⁹ This rate only applies to subject merchandise that was not both exported and produced by Ozdemir Boru Profil San. ve Tic. Ltd. Sti.

¹⁰ See 19 CFR 351.212(b).

¹¹ For a full discussion of this practice, see Antidumping and Countervailing Duty Proceedings: Assessment of Antidumping Duties, 68 FR 23954 (May 6, 2003).

We intend to issue instructions to CBP 15 days after the date of publication of the final results of this review.

Cash Deposit Requirements

The following deposit requirements will be effective for all shipments of the subject merchandise entered, or withdrawn from warehouse, for consumption on or after the publication date of the final results of this administrative review, as provided by section 751(a)(2)(C) of the Act: (1) The cash deposit rates for each specific company listed above will be the weighted-average dumping margins established in the final results of this administrative review; (2) for merchandise exported by manufacturers or exporters not covered in this review but covered in a prior segment of the proceeding, the cash deposit rate will continue to be the company-specific rate published for the most recently completed segment of this proceeding in which the manufacturer or exporter participated; (3) if the exporter is not a firm covered in this review, a prior review, or the original less-than-fair-value (LTFV) investigation, but the manufacturer is, the cash deposit rate will be the rate established for the most recently completed segment of the proceeding for the manufacturer of the merchandise; and (4) the cash deposit rate for all other manufacturers or exporters will continue to be 17.73 percent ad valorem, the all-others rate established in the LTFV investigation.¹² These cash deposit requirements, when imposed, shall remain in effect until further notice.

¹² See Heavy Walled Rectangular Welded Carbon Steel Pipes and Tubes From the Republic of Turkey: Final Determination of Sales at Less Than Fair Value, 81 FR 47355 (July 21, 2016).

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.221(b)(5).

Dated: November 15, 2019.
Jeffrey I. Kessler,
Assistant Secretary, for Enforcement and Compliance.

Appendix

List of Topics Discussed in the Issues and Decision Memorandum

I. Summary

II. Background

III. Scope of the Order

IV. Discussion of the Issue: Certification of No Shipments

V. Recommendation

[FR Doc. 2019-25376 Filed 11-21-19; 8:45 am]

BILLING CODE 3510-DS-P